DEPARTMENT OF HOUSING AND URBAN DEVELOPMENT

[Docket No. FR-4630-FA-37]

Announcement of Funding Awards for the Rural Housing and Economic Development Program; Fiscal Year 2001

AGENCY: Office of the Assistant Secretary for Community Planning and Development, HUD.

ACTION: Notice of funding awards.

SUMMARY: In accordance with section 102(a)(4)(C) of the Department of Housing and Urban Development Reform Act of 1989, this announcement notifies the public of funding decisions made by the Department in a competition for funding under the Super Notice of Funding Availability (SuperNOFA) for the Rural Housing and Economic Development Program. This announcement contains the names of the awardees and the amounts of the awards made available by HUD.

FOR FURTHER INFORMATION CONTACT: Jackie W. Mitchell, Director, Office of Rural Housing and Economic Development, Office of Economic Development, Office of Community Planning and Development, 451 7th Street, SW, Washington, DC 20410; telephone (202) 708-2290 (this is not a toll-free number). Hearing-and speech-impaired persons may access this number via TTY by calling the Federal Relay Service toll-free at 1-800-877-8339. For general information on this and other HUD programs, call Community Connections at 1-800-998-9999 or visit the HUD Website at http://www.hud.gov.

SUPPLEMENTARY INFORMATION: The Rural Housing and Economic Development program was authorized by the Department of Veteran's Affairs, Housing and Urban Development and Independent Agencies Appropriations Act of 1999. The competition was announced in the SuperNOFA published February 26, 2001 (66 FR 12187). Applications were rated and selected for funding on the basis of selection criteria contained in that Notice.

The Rural Housing and Economic Development Program is designed to build capacity at the State and local level for rural housing and economic development and to support innovative housing and economic development activities in rural areas. Eligible applicants are local rural non-profit organizations, community development corporations, Indian tribes, and State housing finance agencies. The funds made available under this program will be awarded competitively, through a selection process conducted by HUD in consultation with the United States Department of Agriculture (USDA).

Prior to the rating and ranking of this year's applications, Butler County Rural Electric Cooperative in Allison, Iowa was awarded $600,000 as a result of a funding error during the previous year's funding. For the Fiscal Year 2001 competition, a total of $24,042,487 was awarded to 111 projects nationwide.

The Catalog of Federal Domestic Assistance number for this program is 14.250.

In accordance with section 102(a)(4)(C) of the Department of Housing and Urban Development Reform Act of 1989 (103 Stat. 1987. 42 U.S.C. 3545), the Department is publishing the grantees and amounts of the awards in Appendix A to this document.

Dated: July 13, 2001.
Roy A. Bernardi,
Assistant Secretary for Community Planning and Development.

Appendix A

FY 2001 Rural Housing and Economic Development Competitive Grants

Applicant | State | City | Grant
Alabama Rural Heritage Foundation, Inc | AL | Thomaston | $400,000
Alabama Mayors Corporation for Economic, Cultural and Educational Development | AL | Birmingham | 398,768
South East Alabama Self-Help Association, Inc | AL | Tuskegee | 148,797
United Presbyterians of Wilcox County, Inc | AL | Catherine | 150,000
Ciunerkiuvik Corporation | AK | Saint Marys | 50,000
Tingit-Halda Regional Housing Authority | AK | Juneau | 70,658
Bee Hoogan Shelter Foundation, Inc | AZ | Fort Defiance | 150,000
Chicanos Por La Causa Tucson | AZ | Tucson | 400,000
PPEP Microbusiness and Housing Development Corp | AZ | Tucson | 400,000
United Housing and Educational Development | AZ | Tucson | 150,000
Yavapai-Apache Nation | AZ | Camp Verde | 140,788
Yavapai-Apache Nation | AZ | Camp Verde | 399,788
North Fork Community Development Corporation | CA | North Fork | 150,000
Self Help Enterprises | CA | Visalia | 400,000
Walking Shield American Indian Society, Inc | CA | Tustin | 400,000
Colorado Rural Housing Development Corporation | CO | Westminster | 100,000
Region 10 League for Economic Assistance & Planning, Inc | CO | Montrose | 100,000
Southwest Community Resources, Inc | CO | Durango | 49,350
Everglades Community Association, Inc | FL | Florida City | 400,000
Homes in Partnership, Inc | FL | Apopka | 150,000
Housing Development Corporation of Macon County | GA | Montezuma | 150,000
Southwest Georgia Housing Development Corporation | GA | Cuthbert | 110,425
Southwest Georgia United Empowerment Zone, Inc | GA | Cordele | 149,400
Sapelo Island Cultural & Revitalization Society | GA | Sapelo Island | 149,100
Na'alehu Theatre | HI | Na'alehu | 89,780
Coeur d'Alene Tribe | ID | Worley | 150,000
Downtown Hays Development Corporation | KS | Hays | 100,000
Original Town of Liberal Revitalization, Inc | KS | Liberal | 150,000
Kentucky Mountain Housing Development Corporation, Inc | KY | Manchester | 100,000
Low Income Housing Coalition of Floyd County | KY | Prestonsburg | 125,505
Louisiana Department of Economic Development | LA | Baton Rouge | 400,000
Northlake Community Development Corporation | LA | Hammond | 150,000
Project 2000, Inc | LA | Hammond | 75,000
Eastern Maine Development Corporation | ME | Bangor | 100,000
Penobscot Indian Nation | ME | Old Town | 399,581
Red Lake Housing Authority | MN | Red Lake | 400,000
Energy Related Homes of Mississippi, Inc | MS | Jackson | 150,000
Mississippi Action for Community Education, Inc | MS | Greenville | 150,000
Mississippi Home Corporation | MS | Jackson | 323,388
Quitman County Development Organization | MS | Marks | 150,000
Southeastern Development Opportunities, Inc | MS | Shelby | 120,450
Action for Eastern Montana, Inc | MT | Glendive | 149,939
Blackfeet Tribe | MT | Browning | 150,000
Confederated Salish & Kootenai Tribes | MT | Pablo | 400,000
Fort Belknap Indian Community | MT | Harlem | 400,000
Fort Belknap Indian Community | MT | Harlem | 150,000
Heritage Institute | MT | Glasgow | 399,731
Heritage Institute | MT | Glasgow | 149,284
Ktunaxa Community Development Corporation | MT | Elmo | 128,139
Santee Sioux Tribe | NE | Niobrara | 150,000
West Central Nebraska Development District, Inc | NE | Ogallala | 90,000
Women's Rural Entrepreneurial Network—WREN | NH | Bethlehem | 100,000
Fallon Paiute-Shoshone Tribal Housing Department | NV | Fallon | 400,000
Fallon Paiute-Shoshone Tribal Housing Department | NV | Fallon | 150,000
New Mexico Mortgage Finance Agency | NM | Albuquerque | 400,000
Eastern Plains Housing Development Corporation | NM | Clovis | 150,000
Community Action Agency of SNM, Inc | NM | Las Cruces | 400,000
Community Action Agency of SNM, Inc | NM | Las Cruces | 150,000
Mesilla Valley Economic Development Alliance | NM | Las Cruces | 400,000
Mesilla Valley Economic Development Alliance | NM | Las Cruces | 150,000
Pojoaque Housing Corporation | NM | Santa Fe | 150,000
San Juan Pueblo | NM | San Juan Pueblo | 150,000
Zuni Indian Tribe | NM | Zuni | 150,000
Northwestern Housing Enterprises, Incorporated | NC | Boone | 150,000
Community Developers of Beaufort-Hyde, Inc | NC | Belhaven | 150,000
Native Way Opportunity, Community Development Corporation, Inc | NC | Hollister | 149,560
The Way Station | OH | Columbiana | 149,230
WSOS Community Action Commission | OH | Fremont | 50,000
Jackson-Vinton Community Action, Inc | OH | Wellston | 150,000
Housing Authority of the Choctaw Nation of Oklahoma | OK | Hugo | 400,000
Housing Authority of the Choctaw Nation of Oklahoma | OK | Hugo | 150,000
Langston Community Development Corporation | OK | Langston | 150,000
Alabama-Quassarte Tribal Town | OK | Muskogee | 59,920
Pawnee Nation of Oklahoma | OK | Pawnee | 399,700
Morning Star Foundation of the Pawnee Nation, Inc | OK | Sand Springs | 150,000
Cherokee Nation | OK | Tahlequah | 400,000
International Bio Oxidative Medicine Foundation | OR | Grants Pass | 150,000
Confederated Tribes of the Umatilla Indian Reservation | OR | Pendleton | 400,000
Lawyers' Campaign for Equal Justice | OR | Portland | 100,000
Redevelopment Authority of Fayette County | PA | Uniontown | 400,000
Ceiba Housing and Economic Development Corporation | PR | Ceiba | 150,000
Williamsburg Enterprise Community Commission, Inc | SC | Kingstree | 95,900
Oglala Sioux Tribe Partnership | SD | Pine Ridge | 400,000
Oglala Sioux Tribe Partnership | SD | Pine Ridge | 100,000
Oti Kaga, Inc | SD | Eagle Butte | 100,000
Sicangu Wicoti Awanyakape Corporation | SD | Rosebud | 400,000
Legal Aid of Central Texas, Inc | TX | Austin | 150,000
Community Development Corporation of Brownsville | TX | Brownsville | 400,000
Neighborhood Housing Service of Dimmit County, Inc | TX | Carrizo Springs | 400,000
El Paso Collaborative For Community & Economic Development | TX | El Paso | 400,000
South Plains Community Action Association, Inc | TX | Levelland | 150,000
Walker-Montgomery Community Development Corporation | TX | New Waverly | 150,000
Organizacion Progresiva De San Elizario | TX | San Elizario | 150,000
Center for Economic Opportunities | TX | San Juan | 400,000
Futuro Communities, Inc | TX | Uvalde | 99,956
Navajo Utah Commission | UT | Montezuma Creek | 400,000
Surry Community Development and Housing Corporation | VA | Surry | 130,300
Gilman Housing Trust, Inc | VT | Newport | 150,000
Lummi Indian Nation | WA | Bellingham | 400,000
Port Gamble S'Klallam Housing Authority | WA | Kingston | 137,968
Upper Valley Mend | WA | Leavenworth | 150,000
North Columbia Action Council | WA | Moses Lake | 150,000
Confederated Tribes of the Colville Reservation | WA | Nespelem | 400,000
Willapa Community Development Association | WA | Raymond | 150,000
The Jamestown S'Klallam Tribe | WA | Sequim | 400,000
Office of Rural and Farmworker Housing | WA | Yakima | 150,000
Impact Seven, Inc | WI | Almena | 400,000
Ho-Chunk Nation | WI | Black River Falls | 400,000
Ho-Chunk Nation | WI | Black River Falls | 102,082
Mid-Ohio Valley Regional Council | WV | Parkersburg | 50,000
Northern Arapaho Tribe | WY | Ethete | 150,000

[FR Doc. 01-18075 Filed 7-18-01; 8:45 am]

BILLING CODE 4210-29-P